DEPARTMENT OF HEALTH AND HUMAN SERVICES

Food and Drug Administration

[Docket No. FDA-2013-N-0001]

Request for Nominations for Voting Members on Public Advisory Panels or Committees

AGENCY: Food and Drug Administration, HHS.

ACTION: Notice.

SUMMARY: The Food and Drug Administration (FDA) is requesting nominations for voting members on the Food Advisory Committee with expertise in microbiology, nutrition, food science, food technology, pediatric development, or nanotechnology in food. Nominations will be accepted for current vacancies and those that will or may occur through June 30, 2013.

FDA seeks to include the views of women and men, members of all racial and ethnic groups, and individuals with and without disabilities on its advisory committees, and therefore encourages nominations of appropriately qualified candidates from these groups.

DATES: Nominations received on or before July 22, 2013 will be given first consideration for membership on the Food Advisory Committee. Nominations received after July 22, 2013 will be considered for nomination to the committee if nominees are still needed.

ADDRESSES: All nominations for membership should be sent electronically to cv@oc.fda.gov, or by mail to Advisory Committee Oversight & Management Staff, 10903 New Hampshire Avenue, Bldg. 32, Rm. 5103, Silver Spring, MD 20993-0002. Information about becoming a member on a FDA advisory committee can also be obtained by visiting FDA's Web site by using the following link http://www.fda.gov/AdvisoryCommittees/default.htm.

FOR FURTHER INFORMATION CONTACT: Karen Strambler, Center of Food Safety and Applied Nutrition, Food and Drug Administration, 5100 Paint Branch Ave., Room 1C-016, College Park, MD 20740, 240-402-1913, FAX: 301-436-2657, email: FoodAdvisoryCommittee@fda.hhs.gov.

SUPPLEMENTARY INFORMATION: FDA is requesting nomination for voting members on the Food Advisory Committee.

I. General Description of the Committee Duties

The Committee provides advice to the Commissioner of Food and Drugs and other appropriate officials, on emerging food safety, food science, nutrition, and other food-related health issues that the FDA considers of primary importance for its food and cosmetics programs.

The Committee may be charged with reviewing and evaluating available data and making recommendations on matters such as those relating to: (1) Broad scientific and technical food- or cosmetic-related issues; (2) the safety of new foods and food ingredients; (3) labeling of foods and cosmetics; (4) nutrient needs and nutritional adequacy; and (5) safe exposure limits for food contaminants.

The Committee may also be asked to provide advice and make recommendations on ways of communicating to the public the potential risks associated with these issues and on approaches that might be considered for addressing the issues.

II. Criteria for Voting Members

Members and the Chair are selected by the Commissioner or designee from among individuals knowledgeable in the fields of physical sciences, biological and life sciences, food science, risk assessment, nutrition, food technology, molecular biology, and other relevant scientific and technical disciplines.

Members will be invited to serve for terms of up to 4 years. The Committee consists of 17 standing members; of that 15 are voting members, which 2 are technically qualified members identified with consumer interest. In addition to the voting members the Committee has two nonvoting members who are identified with industry interests.

III. Nomination Procedures

Any interested person may nominate one or more qualified individuals for membership on the advisory committee. Self-nominations are also accepted. Nominations must include a current, complete resume or curriculum vitae for each nominee, including current business address and/or home address, telephone number, and email address if available. Nominations must also specify the advisory committee for which the nominee recommended. Nominations must also acknowledge that the nominee is aware of the nomination unless self-nominated. FDA will ask potential candidates to provide detailed information concerning such matters related to financial holdings, employment, and research grants and/or contracts to permit evaluation of possible sources of conflicts of interest.

This notice is issued under the Federal Advisory Committee Act (5 U.S.C. app. 2) and 21 CFR part 14, relating to advisory committees.

Dated: May 15, 2013.
Jill Hartzler Warner,
Acting Associate Commissioner for Special Medical Programs.

[FR Doc. 2013-12071 Filed 5-20-13; 8:45 am]

BILLING CODE 4160-01-P